DEPARTMENT OF HEALTH AND HUMAN SERVICES

Food and Drug Administration

[Docket No. FDA-2025-D-0610]

Development of Non-Opioid Analgesics for Chronic Pain, Draft Guidance for Industry; Availability

AGENCY: Food and Drug Administration, HHS.

ACTION: Notice of availability.

SUMMARY: The Food and Drug Administration (FDA or Agency) is announcing the availability of a draft guidance for industry entitled “Development of Non-Opioid Analgesics for Chronic Pain.” This guidance is intended to assist sponsors in the development of non-opioid analgesics for the treatment of chronic pain. It describes FDA's current recommendations regarding phase 3 trials for prescription non-opioid analgesic products being developed to treat chronic pain. This guidance also responds to the statutory requirements of the Substance Use-Disorder Prevention that Promotes Opioid Recovery and Treatment for Patients and Communities (SUPPORT) Act, which directs FDA to issue or update existing guidance to help address challenges to developing non-opioid medical products to treat pain.

DATES: Submit either electronic or written comments on the draft guidance by November 10, 2025 to ensure that the Agency considers your comment on this draft guidance before it begins work on the final version of the guidance.

ADDRESSES: You may submit comments on any guidance at any time as follows:

Electronic Submissions

Submit electronic comments in the following way:

• Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as medical information, your or anyone else's Social Security number, or confidential business information, such as a manufacturing process. Please note that if you include your name, contact information, or other information that identifies you in the body of your comments, that information will be posted on https://www.regulations.gov.

• If you want to submit a comment with confidential information that you do not wish to be made available to the public, submit the comment as a written/paper submission and in the manner detailed (see “Written/Paper Submissions” and “Instructions”).

Written/Paper Submissions

Submit written/paper submissions as follows:

• Mail/Hand Delivery/Courier (for written/paper submissions): Dockets Management Staff (HFA-305), Food and Drug Administration, 5630 Fishers Lane, Rm. 1061, Rockville, MD 20852.

• For written/paper comments submitted to the Dockets Management Staff, FDA will post your comment, as well as any attachments, except for information submitted, marked and identified, as confidential, if submitted as detailed in “Instructions.”

Instructions: All submissions received must include the Docket No. FDA-2025-D-0610 for “Development of Non-Opioid Analgesics for Chronic Pain.” Received comments will be placed in the docket and, except for those submitted as “Confidential Submissions,” publicly viewable at https://www.regulations.gov or at the Dockets Management Staff between 9 a.m. and 4 p.m., Monday through Friday, 240-402-7500.

• Confidential Submissions—To submit a comment with confidential information that you do not wish to be made publicly available, submit your comments only as a written/paper submission. You should submit two copies total. One copy will include the information you claim to be confidential with a heading or cover note that states “THIS DOCUMENT CONTAINS CONFIDENTIAL INFORMATION.” The Agency will review this copy, including the claimed confidential information, in its consideration of comments. The second copy, which will have the claimed confidential information redacted/blacked out, will be available for public viewing and posted on https://www.regulations.gov. Submit both copies to the Dockets Management Staff. If you do not wish your name and contact information to be made publicly available, you can provide this information on the cover sheet and not in the body of your comments and you must identify this information as “confidential.” Any information marked as “confidential” will not be disclosed except in accordance with 21 CFR 10.20 and other applicable disclosure law. For more information about FDA's posting of comments to public dockets, see 80 FR 56469, September 18, 2015, or access the information at: https://www.govinfo.gov/content/pkg/FR-2015-09-18/pdf/2015-23389.pdf.

Docket: For access to the docket to read background documents or the electronic and written/paper comments received, go to https://www.regulations.gov and insert the docket number, found in brackets in the heading of this document, into the “Search” box and follow the prompts and/or go to the Dockets Management Staff, 5630 Fishers Lane, Rm. 1061, Rockville, MD 20852, 240-402-7500.

You may submit comments on any guidance at any time (see 21 CFR 10.115(g)(5)).

Submit written requests for single copies of this guidance to the Division of Drug Information, Center for Drug Evaluation and Research, Food and Drug Administration, 10001 New Hampshire Ave., Hillandale Building, 4th Floor, Silver Spring, MD 20993-0002. Send one self-addressed adhesive label to assist that office in processing your requests. See the SUPPLEMENTARY INFORMATION section for electronic access to the draft guidance document.

FOR FURTHER INFORMATION CONTACT: Matthew Sullivan, Center for Drug Evaluation and Research, Food and Drug Administration, 10903 New Hampshire Ave., Silver Spring, MD 20993, 301-796-1245.

SUPPLEMENTARY INFORMATION:

I. Background

FDA is announcing the availability of a draft guidance for industry entitled “Development of Non-Opioid Analgesics for Chronic Pain.” This guidance is intended to assist sponsors in the development of non-opioid analgesics for the treatment of chronic pain. It describes FDA's current recommendations regarding phase 3 trials for prescription non-opioid analgesic products being developed to treat chronic pain. This guidance also responds to the statutory requirements of section 3001(b) of the SUPPORT Act (Pub. L. 115-271), which directs FDA to issue or update existing guidance to help address challenges to developing non-opioid medical products to treat pain.

This guidance does not address the development of drugs for the treatment of acute pain, which is the subject of a separate guidance; ¹ local anesthetic drug products with prolonged duration of effect, which is also the subject of a separate guidance; ² or opioid or opioid-containing analgesic products.

¹ See the draft guidance for industry “Development of Non-Opioid Analgesics for Acute Pain,” available at https://www.fda.gov/media/156063/download.

² See the draft guidance for industry “Development of Local Anesthetic Drug Products With Prolonged Duration of Effect,” available at https://www.fda.gov/media/166210/download.

This draft guidance is being issued consistent with FDA's good guidance practices regulation (21 CFR 10.115). The draft guidance, when finalized, will represent the current thinking of FDA on “Development of Non-Opioid Analgesics for Chronic Pain.” It does not establish any rights for any person and is not binding on FDA or the public. You can use an alternative approach if it satisfies the requirements of the applicable statutes and regulations. As we develop any final guidance on this topic, FDA will consider comments on the applicability of Executive Order 14192, per OMB guidance M-25-20, and in particular, on any costs or cost savings.

II. Supplementary Information on Comment Submissions

In addition to the instructions on submitting electronic or written comments provided above, FDA is providing suggestions for organizing comments to help facilitate FDA's review and analysis.

It is helpful to distinguish comments that are general in nature from comments that pertain to a specific section or specific text in the guidance. Note that each line of text in the guidance is numbered. If your comments pertain to a particular section or line number of the guidance, please include the section and/or line number(s) with your comment. Following is an example format that could be used to organize comments. Note that use of this format is optional.

The following is an example comment format (with example text and instructions italicized):

1. General Comments

[Include general comment]

[Include general comment]

2. Specific Comments on Text

Document section | Line No. | Comment
I. Introduction | Lines 27-30 | [Include comment, rationale, and proposed changes (if any)].
I. Introduction | Lines 39-42 | [Include comment, rationale, and proposed changes (if any)].
II. Background | Line 80 | [Include comment, rationale, and proposed changes (if any)].

III. Paperwork Reduction Act of 1995

While this guidance contains no collection of information, it does refer to previously approved FDA collections of information. The previously approved collections of information are subject to review by the Office of Management and Budget (OMB) under the Paperwork Reduction Act of 1995 (44 U.S.C. 3501-3521).

The collections of information in 21 CFR parts 50 and 56 for protection of human subjects and institutional review boards have been approved under OMB control number 0910-0130. The collections of information in 21 CFR 58 for good laboratory practice have been approved under OMB control number 0910-0119. The collections of information in 21 CFR 210 and 211 for current good manufacturing practice have been approved under OMB control number 0910-0139. The collections of information in 21 CFR part 312 for investigational new drug applications, conducting clinical trials, good clinical practice, and collecting data for such trials have been approved under OMB control number 0910-0014. The collections of information in 21 CFR part 314 for new drug applications and abbreviated new drug applications trials have been approved under OMB control number 0910-0001. The collections of information in 21 CFR 201.56 and 201.57 regarding content and format requirements for labeling for human prescription drug and biological products have been approved under OMB control number 0910-0572. The collections of information in 21 CFR parts 601 and 610 for biologics license applications have been approved under OMB control number 0910-0338. The collections of information in 21 CFR part 11 regarding electronic records and signatures have been approved under OMB control number 0910-0303. The collections of information for expedited pathways for development programs of drugs and biologics for serious conditions have been approved under OMB control number 0910-0765.

IV. Electronic Access

Persons with access to the internet may obtain the guidance at https://www.fda.gov/drugs/guidance-compliance-regulatory-information/guidances-drugs, https://www.fda.gov/regulatory-information/search-fda-guidance-documents, or https://www.regulations.gov.

Grace R. Graham,
Deputy Commissioner for Policy, Legislation, and International Affairs.

[FR Doc. 2025-17442 Filed 9-10-25; 8:45 am]

BILLING CODE 4164-01-P